DEPARTMENT OF COMMERCE

National Oceanic and Atmospheric Administration

50 CFR Part 216

RIN 0648-AX36

Notification of Receipt of a Petition for Rulemaking to Implement the Provisions of the Marine Mammal Protection Act for Swordfish Imports

AGENCY: National Marine Fisheries Service (NMFS), National Oceanic and Atmospheric Administration (NOAA), Commerce.

ACTION: Reopening of comment period.

SUMMARY: In order to provide additional opportunities for the public, foreign nations that export swordfish to the United States, and other interested parties to comment on the petition for rulemaking to implement the provisions of section 101(a)(2)(A) of the Marine Mammal Protection Act for swordfish imports, NMFS is reopening the comment period. On December 15, 2008, NMFS published a notification of receipt of the petition. Based on the December 15, 2008 document, the comment period was scheduled to conclude on January 29, 2009. NMFS is now reopening the comment period until March 23, 2009. Comments received will be considered by NMFS as it determines whether to proceed with the request by Center for Biological Diversity and Turtle Island Restoration Network. In addition to general comments on the petition, NMFS specifically requests comments on how to define “United States standards” as referenced in MMPA section 101(a)(2).

DATES: The request for comments on the petition for rulemaking to implement the provisions of section 101(a)(2)(A) of the Marine Mammal Protection Act for swordfish imports will be reopened on February 4, 2009. Comments must be received by 5 p.m. on March 23, 2009.

ADDRESSES: You may submit comments by any of the following methods:

• Electronic Submissions: Submit all electronic public comments via the Federal eRulemaking Portal at http://www.regulations.gov.

• Mail: Director, Office of International Affairs, Attn: Swordfish Petition, NMFS, F/IA, 1315 East-West Highway, Silver Spring, MD 20910

• Fax: (301) 713-2313

All comments received are a part of the public record and will generally be posted to http://www.regulations.gov without change. All Personal Identifying Information (e.g., name, address) voluntarily submitted by the commenter may be publicly accessible. Do not submit Confidential Business Information or otherwise sensitive or protected information.

NMFS will accept anonymous comments (enter N/A in the required fields, if you wish to remain anonymous). Attachments to electronic comments will be accepted in Microsoft Word, Excel, WordPerfect, or Adobe portable document file (pdf) formats only.

FOR FURTHER INFORMATION CONTACT: Lekelia Jenkins at 301-713-9090 x131.

SUPPLEMENTARY INFORMATION: NMFS received a petition for rulemaking under the Administrative Procedure Act. The Center for Biological Diversity and the Turtle Island Restoration Network, nongovernmental organizations, have petitioned the U.S. Department of Commerce and other relevant Departments to initiate rulemaking to ban importation of commercial fish or products from fish that have been caught with commercial fishing technology that results in incidental mortality or serious injury of marine mammals in excess of United States standards.

On December 15, 2008, NMFS published a notification of the receipt of the petition, with a January 29, 2009, deadline for comments (73 FR 75988). NMFS is reopening the comment period to provide additional opportunity for interested parties to comment on the petition.

The complete text of the Center for Biological Diversity and the Turtle Island Restoration Network's petition is available via the internet at the following web address: http://www.nmfs.noaa.gov/ia/. Copies of this petition also may be obtained by contacting NMFS at the above address.

Dated: January 29, 2008.
James W. Balsiger,
Acting Assistant Administrator for Fisheries, National Marine Fisheries Service.

[FR Doc. E9-2369 Filed 2-3-09; 8:45 am]

BILLING CODE 3510-22-S